DEPARTMENT OF LABOR

Employment and Training Adminstration

Agency Information Collection Activities; Comment Request; Short-Time Compensation (STC) Grants

ACTION: Notice.

SUMMARY: The Department of Labor's (DOL's) Employment and Training Administration (ETA) is soliciting comments concerning a proposed extension for the authority to conduct the information collection request (ICR) titled, “Short-Time Compensation (STC) Grants.” This comment request is part of continuing Departmental efforts to reduce paperwork and respondent burden in accordance with the Paperwork Reduction Act of 1995 (PRA).

DATES: Consideration will be given to all written comments received by February 26, 2019.

ADDRESSES: A copy of this ICR with applicable supporting documentation, including a description of the likely respondents, proposed frequency of response, and estimated total burden, may be obtained free by contacting Mohammad Nabulsi by telephone at (202) 693-3483, TTY 1-877-889-5627 (these are not toll-free numbers), or by email at Nabulsi.Mohammad@dol.gov.

Submit written comments about or requests for a copy of this ICR by mail or courier to the U.S. Department of Labor, Employment and Training Administration, Office of Unemployment Insurance, Room S-4520, 200 Constitution Avenue NW, Washington, DC 20210, by email at Nabulsi.Mohammad@dol.gov, or by Fax at (202) 693-3975.

FOR FURTHER INFORMATION CONTACT: Stephanie Garcia by telephone at (202) 693-3207 (this is not a toll-free number) or by email at Garcia.Stephanie@dol.gov.

SUPPLEMENTARY INFORMATION: As part of continuing efforts to reduce paperwork and respondent burden, DOL conducts a pre-clearance consultation program to provide the general public and Federal agencies an opportunity to comment on proposed and/or continuing collections of information before submitting them to the Office of Management Budget (OMB) for final approval. This program helps to ensure requested data is provided in the desired format, reporting burden (time and financial resources) is minimized, collection instruments are clearly understood, and the impact of collection requirements can be properly assessed.

The enactment of Public Law 112-96 (The Middle Class Tax Relief and Job Creation Act of 2012, referred to hereafter as “the act”) contains Subtitle D, Short-Time Compensation Program, also known as the “Layoff Prevention Act of 2012” (Act). The sections of the law under this subtitle concern states that participate in a layoff aversion program known as STC or work sharing. Section 2164 of the Act covers grants the Federal Government provided to states for the purpose of implementation or improved administration of an STC program or for promotional and enrollment in the program. ETA has principal oversight responsibility for monitoring the STC grants awarded to state workforce agencies (SWAs). As part of the monitoring process, SWAs submit a quarterly progress report (QPR). The QPR serves as a monitoring instrument to track the SWAs' progress toward completing STC grant activities. ETA also needs to allow for this reporting for proper oversight of state STC programs. Section 2164 of the Act authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0499.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: DOL-ETA.

Type of Review: Extension without changes.

Title of Collection: Short-Time Compensation (STC) Grants.

Form: Short-Time Compensation Quarterly Progress Report.

OMB Control Number: 1205-0499.

Affected Public: State Workforce Agencies.

Estimated Number of Respondents: 11.

Frequency: Quarterly.

Total Estimated Annual Responses: 44.

Estimated Average Time per Response: 1 hour.

Estimated Total Annual Burden Hours: 44 hours.

Total Estimated Annual Other Cost Burden: $0.

Authority: 44 U.S.C. 3506(c)(2)(A).

Molly E. Conway,
Acting Assistant Secretary for Employment and Training, Labor.

[FR Doc. 2018-28243 Filed 12-27-18; 8:45 am]

BILLING CODE 4510-FW-P